DEPARTMENT OF COMMERCE

International Trade Administration

[C-570-968]

Aluminum Extrusions From the People's Republic of China: Notice of Partial Rescission of Countervailing Duty Administrative Review

AGENCY: Enforcement and Compliance, formerly Import Administration, International Trade Administration, Department of Commerce.

DATES: Effective January 15, 2014.

FOR FURTHER INFORMATION CONTACT: Kristen Johnson or Brooke Kennedy, AD/CVD Operations, Office III, Enforcement and Compliance, International Trade Administration, U.S. Department of Commerce, 14th Street and Constitution Avenue NW., Washington, DC 20230; telephone: (202) 482-4793 or (202) 482-3818, respectively.

SUPPLEMENTARY INFORMATION:

Background

On May 1, 2013, the Department of Commerce (the Department) published a notice of opportunity to request an administrative review of the countervailing duty (CVD) order on aluminum extrusions from the People's Republic of China (PRC) for the period January 1, 2012, through December 31, 2012.¹ On May 31, 2013, we received from Electrolux North America, Inc., Electrolux Home Products, Inc., and Electrolux Major Appliances (collectively, Electrolux), a domestic interested party, a request that the Department conduct an administrative review of Hong Kong Gree Electric Appliances Sales Limited (Hong Kong Gree).² On June 28, 2013, the Department published a notice of initiation of administrative review with respect to 153 companies.³ On August 27, 2013, Hong Kong Gree notified the Department that it had no shipments of subject merchandise to the United States during the period of review (POR).⁴ On November 8, 2013, we published a notice of intent to rescind this administrative review with respect to Hong Kong Gree, and invited interested parties to comment.⁵ We received no comments, and have determined that the review of Hong Kong Gree should be rescinded.

¹ See Antidumping or Countervailing Duty Order, Finding, or Suspended Investigation; Opportunity To Request Administrative Review, 78 FR 25420, 25424 (May 1, 2013).

² See Letter from Crowell & Moring on behalf of Electrolux regarding “Request for Administrative Review” (May 31, 2013). This public document and all other public documents and public versions of business proprietary documents for this administrative review are on file electronically via IA ACCESS.

³ See Initiation of Antidumping and Countervailing Duty Administrative Reviews and Request for Revocation in Part, 78 FR 38924 (June 28, 2013).

⁴ See Letter from Hong Kong Gree regarding “No Shipment Certification” (August 27, 2013).

⁵ See Aluminum Extrusions from the People's Republic of China: Intent to Rescind 2012 Countervailing Duty Administrative Review, in Part, 78 FR 67115 (November 8, 2013).

Partial Rescission of Review

Pursuant to 19 CFR 351.213(d)(3), the Department may rescind an administrative review, with respect to a particular exporter or producer, if the Secretary concludes that, during the period covered by the review, there were no entries, exports, or sales of the subject merchandise to the United States by that producer. Hong Kong Gree submitted a letter to the Department certifying that it had no shipments of subject merchandise to the United States during the POR. No parties commented on Hong Kong Gree's claim of no shipments.

Previously, on August 2, 2013, we released the results of a U.S. Customs and Border Protection (CBP) data query, which indicated that Hong Kong Gree had no suspended entries of subject merchandise during the POR.⁶ After receipt of Hong Kong Gree's no shipment certification, we sent a “no shipments inquiry” message to CBP, which posted the message on September 20, 2013.⁷ The Department did not receive any information from CBP contrary to Hong Kong Gree's claim of no shipments of subject merchandise to the United States during the POR.

⁶ See Department Memorandum regarding “Analysis of CBP Data and Identification of Companies to Receive Q&V Questionnaires” (August 2, 2013).

⁷ See Message number 3263301 available at http://addcvd.cbp.gov and also IA ACCESS.

Based on our analysis of all the information on the record, we determine that Hong Kong Gree had no shipments or entries of subject merchandise to the United States during the POR. Therefore, in accordance with 19 CFR 351.213(d)(3), and consistent with our practice,⁸ we are rescinding the review for Hong Kong Gree. We will continue this administrative review with respect to those companies for which a review was requested and not subsequently withdrawn.⁹

⁸ See, e.g., Polyethylene Terephthalate Film, Sheet and Strip from India: Rescission of Countervailing Duty Administrative Review, 77 FR 19634 (April 2, 2012); see also Welded Carbon Steel Standard Pipe and Tube from Turkey: Notice of Rescission of Countervailing Duty Administrative Review, In Part, 74 FR 47921 (September 18, 2009).

⁹ See Aluminum Extrusions from the People's Republic of China: Notice of Partial Rescission of Countervailing Duty Administrative Review, 78 FR 67116 (November 8, 2013).

We are issuing this notice in accordance with section 777(i)(1) of the Tariff Act of 1930, as amended, and 19 CFR 351.213(d)(4).

Dated: January 10, 2014.
Christian Marsh,
Deputy Assistant Secretary for Antidumping and Countervailing Duty Operations.

[FR Doc. 2014-00637 Filed 1-14-14; 8:45 am]

BILLING CODE 3510-DS-P